DEPARTMENT OF JUSTICE

Office of Justice Programs

[OJP-1402]

Meeting of the Public Safety Officer Medal of Valor Review Board

AGENCY: Office of Justice Programs, Justice.

ACTION: Notice of meeting.

SUMMARY: This is the initial meeting of the Public Safety Officer Medal of Valor Review Board. This Board is charged with recommending recipients of the Public Safety Officer Medal of Valor, the highest national award for valor by a public safety officer. The purpose of this meeting is to conduct preliminary business of the Board.

DATES: The meeting will be held on Tuesday, March 26, 2002, at 10 a.m.

ADDRESSES: The meeting will be held in the Assistant Attorney General's Conference Room (Room 6403), Office of Justice Programs, 810 7th Street, NW., Washington, DC 20531.

FOR FURTHER INFORMATION CONTACT: Tracy A. Henke, Principal Deputy Assistant Attorney General, Office of Justice Programs, 810 7th Street, NW., Washington, DC, 20531; Telephone: 202-307-5933. [This is not a toll-free number.]

SUPPLEMENTARY INFORMATION: The Public Safety Officer Medal of Valor Review Board is authorized to carry out its advisory function under 42 U.S.C. section 15202. (42 U.S.C. section 15201 authorizes the President to award the Public Safety Officer Medal of Valor, the highest national award for valor by a public safety officer.)

This meeting will be open to the public.

Deborah J. Daniels,
Assistant Attorney General, Office of Justice Programs.

[FR Doc. 02-6639 Filed 3-19-02; 8:45 am]

BILLING CODE 4410-18-P